DEPARTMENT OF HOMELAND SECURITY

Coast Guard

33 CFR Part 165

[Docket Number USCG-2012-1013]

RIN 1625-AA00

Safety Zone; Woldenburg Park, Mississippi River, New Orleans, LA

AGENCY: Coast Guard, DHS.

ACTION: Final rule.

SUMMARY: The Captain of the Port New Orleans, under the authority of the Ports and Waterways Safety Act, has established a temporary safety zone on the Mississippi River in the vicinity of Woldenburg Park, mile marker 94 to mile marker 96, extending out 300 feet from the East Bank of the Mississippi River during Super Bowl 2013 celebratory events. The Super Bowl is a large scale event that poses many public safety concerns due to the number of people that will attend. This safety zone has been established to protect the public from the hazards created by congested river traffic.

DATES: This rule is effective from 6:00 a.m. on January 29, 2013 through 6:00 a.m. on February 4, 2013. The zone will be enforced between the hours of 8:00 a.m. and 10:00 p.m. on each day of the effective period described above.

ADDRESSES: Documents mentioned in this preamble are part of docket [USCG-2012-1013]. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email LCDR Kenneth Blair, Sector New Orleans, U.S. Coast Guard; telephone (504) 365-2392, email Kenneth.E.Blair@uscg.mil. If you have questions on viewing or submitting material to the docket, call Renee V. Wright, Program Manager, Docket Operations, telephone (202) 366-9826.

SUPPLEMENTARY INFORMATION:

Table of Acronyms

DHS Department of Homeland Security

FR Federal Register

NPRM Notice of Proposed Rulemaking

A. Regulatory History and Information

The Coast Guard published a Notice of Proposed Rulemaking (NPRM) for this Final Rule on December 19, 2012 (77 FR 75079). The comment period for the NPRM expired on December 30, 2012. The Coast Guard received no public comments and no requests to extend the comment period.

Under 5 U.S.C. 553(d)(3), the Coast Guard finds that good cause exists for making this rule effective less than 30 days after publication in the Federal Register. The Super Bowl events for which this safety zone is intended to be effective begin the last week of January 2013. Waiting 30 days after publication in the Federal Register is contrary to public interest as that would delay the effective date of this rule until after the Super Bowl events in this area have completed.

B. Basis and Purpose

The 2013 National Football League Super Bowl in New Orleans, Louisiana will occur on February 3, 2013. This is a very high profile event, with tens of thousands of people expected to attend events at Woldenburg Park and other Mississippi River riverfront locations before, during, and after the football game. Due to the unusually large crowds expected along the riverfront, the consequences to the public of an incident involving a vessel in the immediate area will greatly increase. To address this concern, the Captain of the Port New Orleans has established a temporary safety zone on the Mississippi River in the vicinity of Woldenburg Park, mile marker 94 to mile marker 96, extending out 300 feet from the East Bank of the Mississippi River. This safety zone has been established to protect the public from the potential hazards created by congested river traffic. All vessels are prohibited from entering into or transiting through the safety zone without prior approval of the Captain of the Port New Orleans.

The legal basis and authorities for this rule are found in 33 U.S.C. 1231, 46 U.S.C. Chapter 701, 3306, 3703; 50 U.S.C. 191, 195; 33 CFR 1.05-1, 6.04-1, 6.04-6, and 160.5; Public Law 107-295, 116 Stat. 2064; and Department of Homeland Security Delegation No. 0170.1, which collectively authorize the Coast Guard to propose, establish, and define regulatory safety zones.

C. Discussion of Comments, Changes and the Final Rule

The Coast Guard received no public comments on the proposed temporary safety zone, therefore there are no changes to the regulatory text in this final rule.

D. Regulatory Analyses

We developed this rule after considering numerous statutes and executive orders related to rulemaking. Below we summarize our analyses based on a number of these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. The impacts on navigation will be minimal due to the duration and location of the safety zone, and the fact that vessels will be able to safely navigate around this area on the Mississippi River. Additionally, vessels may request permission from the Captain of the Port to enter into or transit though the safety zone.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule will not have a significant economic impact on a substantial number of small entities.

This final rule affects the following entities, some of which might be small entities: the owners or operators of vessels intending to transit on the Mississippi River in the Vicinity of Woldenburg Park, New Orleans, Louisiana, mile marker 94 to mile marker 96, between 6:00 a.m. on January 29, 2013 through 6:00 a.m. on February 4, 2013.

This safety zone will not have a significant economic impact on a substantial number of small entities because most vessel traffic could pass safely around the safety zone. Vessel traffic that cannot pass safely around the safety zone would be allowed to pass through the zone with the permission of the Captain of the Port New Orleans. Before the activation of the safety zone, the Captain of the Port New Orleans would issue maritime advisories widely available to users of the river.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INTFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA)(42 U.S.C. 4321-4370f), and have determined that this action is one of a category of actions that do not individually or cumulatively have a significant effect on the human environment. This rule creates a temporary safety zone on the Mississippi River in the vicinity of Woldenburg Park, mile marker 94 to mile marker 96, extending out 300 feet from the East Bank of the Mississippi River during Super Bowl 2013 celebratory events. The Super Bowl is a large scale event that poses many public safety concerns due to the number of people that will attend. This safety zone has been established to protect the public from the hazards created by congested river traffic. This rule is categorically excluded from further review under paragraph 34(g) of Figure 2-1 of the Commandant Instruction. An Environmental Analysis Checklist and a Categorical Exclusion Determination are available in the docket where indicated under ADDRESSES. We seek any comments or information that may lead to the discovery of a significant environmental impact from this rule.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, and 160.5; Pub. L, 107-295, 116 Stat. 2064; Department of Homeland Security Delegation No. 0170.1

2. Add § 165.T08-1013 to read as follows:

§ 165.T08-1013 Safety Zone; Woldenburg Park, Mississippi River, New Orleans, LA.

(a) Location. The following area is a safety zone: The waters on the Mississippi River in the vicinity of Woldenburg Park, New Orleans, Louisiana, mile marker 94 to mile marker 96, extending out approximately 300 feet from the East Bank of the Mississippi River.

(b) Effective Dates: This rule is effective from 6:00 a.m. on January 29, 2013 through 6:00 a.m. on February 4, 2013.

(c) Enforcement Periods: This safety zone will be enforced from 8:00 a.m. until 10:00 p.m. on each day of the effective dates described in paragraph (b).

(d) Regulations. (1) In accordance with the general regulation in § 165.23 of this part, vessels must not enter into, remain within, or transit through this safety zone, unless authorized by the Captain of the Port New Orleans.

(2) Vessels requiring entry into or passage through the Safety Zone must request permission from the Captain of the Port New Orleans, or a designated representative. The Captain of the Port New Orleans, or a designated representative, may be contacted on VHF-16, or by telephone at (504) 365-2543.

(3) All persons and vessels shall comply with the instructions of the Captain of the Port New Orleans and designated personnel. Designated personnel include commissioned, warrant, and petty officers of the U.S. Coast Guard.

Dated: January 23, 2013.
P.W. Gautier,
Captain, U.S. Coast Guard, Captain of the Port New Orleans.

[FR Doc. 2013-02207 Filed 1-30-13; 8:45 am]

BILLING CODE 9110-04-P